DEPARTMENT OF TRANSPORTATION

Federal Aviation Administration

Fifty-Sixth Meeting, RTCA Special Committee 135: Environmental Conditions and Test Procedures for Airborne Equipment

AGENCY: Federal Aviation Administration (FAA), Department of Transportation (DOT).

ACTION: Notice of RTCA Special Committee 135: Environmental Conditions and Test Procedures for Airborne Equipment meeting.

SUMMARY: The FAA is issuing this notice to advise the public of a meeting of RTCA Special Committee 135: Environmental Conditions and Test Procedures for Airborne Equipment.

DATES: The meeting will be held October 5-7, 2010, starting at 9 a.m.

ADDRESSES: The meeting will be held at the RTCA Conference Rooms, 1828 L Street, NW., Suite 805, Washington, DC 20036.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C., Appendix 2), notice is hereby given for a Special Committee 135: Environmental Conditions and Test Procedures for Airborne Equipment meeting. The agenda will include:

• Opening Session (Welcome, Chairman's Opening Remarks, Introductions)

• Approval of Summary from the Fifty-Fifth Meeting—(RTCA Paper No. 061-10/SC135-678).

• Review/Approval Revised DO-160F—Environmental Conditions and Test Procedures for Airborne Equipment—(RTCA Paper No. 117-10/SC135-689).

• Review Revised Terms of Reference.

• New/Unfinished Business.

• Establish Date for Next SC-135 Meeting.

• Closing

Attendance is open to the interested public but limited to space availability. With the approval of the chairman, members of the public may present oral statements at the meeting. Persons wishing to present statements or obtain information should contact the person listed in the FOR FURTHER INFORMATION CONTACT section. Members of the public may present a written statement to the committee at any time.

Issued in Washington, DC, on August 3, 2010.
Francisco Estrada C.,
RTCA Advisory Committee.

[FR Doc. 2010-19613 Filed 8-6-10; 8:45 am]

BILLING CODE 4910-13-P